DEPARTMENT OF JUSTICE

Notice of Lodging of Proposed Consent Decree Under the Clean Air Act

On April 10, 2024, the Department of Justice lodged a proposed Consent Decree with the United States District Court for the Southern District of Georgia in the lawsuit entitled United States v. Colonial Oil Industries, Inc., Civil Action No. 4:24-cv-00069-RSB-CLR.

The proposed Complaint alleges that Colonial (a) failed to meet renewable fuel volume obligations for fuel it supplied to certain marine vessels and (b) produced and sold gasoline that exceeded the applicable volatility standard. To resolve the violations alleged in the Complaint, the proposed Consent Decree requires Colonial to (i) purchase and retire over 9 million renewable identification number credits, estimated to cost approximately $12.2 million, to satisfy its outstanding compliance obligations within two years of the Court's entry of the Consent Decree, and (ii) pay a civil penalty of approximately $2.8 million.

The publication of this notice opens a period for public comment on the proposed Consent Decree. Comments should be addressed to the Assistant Attorney General, Environment and Natural Resources Division, and should refer to United States v. Colonial Oil Industries, Inc., D.J. Ref. No. 90-5-2-1-12553. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Susan M. Akers,
Deputy Section Chief, Environmental Enforcement Section, Environment and Natural Resources Division.

[FR Doc. 2024-08124 Filed 4-16-24; 8:45 am]

BILLING CODE 4410-15-P